DEPARTMENT OF DEFENSE

Office of the Secretary

[Transmittal No. 25-46]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-46, Policy Justification, and Sensitivity of Technology.

Dated: January 22, 2026.
Stephanie J. Bost,
Alternate OSD Federal Register Liaison Officer, Department of Defense.

6001-FR-P

BILLING CODE 6001-FR-P

BILLING CODE 6001-FR-C

Transmittal No. 25-46

Notice of Proposed Issuance of Letter of Offer Pursuant to Section 36(b)(1) of the Arms Export Control Act, as amended

(i) Prospective Purchaser: Government of Ukraine

(ii) Total Estimated Value:

Major Defense Equipment * | $739 million
Other | $ 86 million
TOTAL | $825 million

Funding Source: Jumpstart Funding from Denmark, the Netherlands, and Norway; Foreign Military Financing

(iii) Description and Quantity or Quantities of Articles or Services under Consideration for Purchase:

Major Defense Equipment (MDE):

Up to three thousand three hundred fifty (3,350) Extended Range Attack Munition (ERAM) missiles

Up to three thousand three hundred fifty (3,350) Embedded Global Positioning System (GPS)/Inertial Navigation Systems (INS) (EGI) with Selective Availability Anti-Spoofing Module (SAASM), Y-Code, or M-Code

Non-Major Defense Equipment:

The following non-MDE items will be included: missile containers; stoker pylons; component parts and support equipment; spare parts, consumables and accessories, and repair and return support; weapons software and support equipment; mission planning system hardware; classified software delivery and support; classified and unclassified publications and technical documentation; personnel training and training equipment; transportation support; studies and surveys; United States (U.S.) Government and contractor engineering, technical, and logistics support services; and other related elements of logistics and program support.

(iv) Military Department: Air Force (JU-D-YAA, UP-D-YAB)

(v) Prior Related Cases, if any: KA-D-YAF

(vi) Sales Commission, Fee, etc., Paid, Offered, or Agreed to be Paid: None known at this time

(vii) Sensitivity of Technology Contained in the Defense Article or Defense Services Proposed to be Sold: See Attached Annex

(viii) Date Report Delivered to Congress: August 28, 2025

* as defined in Section 47(6) of the Arms Export Control Act.

POLICY JUSTIFICATION

Ukraine—Air Delivered Munitions

The Government of Ukraine has requested to buy up to three thousand three hundred fifty (3,350) Extended Range Attack Munition (ERAM) missiles and three thousand three hundred fifty (3,350) Embedded Global Positioning System (GPS)/Inertial Navigation Systems (INS) (EGI) with Selective Availability Anti-Spoofing Module (SAASM), Y-Code, or M-Code. The following non-MDE items will be included: missile containers; stoker pylons; component parts and support equipment; spare parts, consumables and accessories, and repair and return support; weapons software and support equipment; mission planning system hardware; classified software delivery and support; classified and unclassified publications and technical documentation; personnel training and training equipment; transportation support; studies and surveys; U.S. Government and contractor engineering, technical, and logistics support services; and other related elements of logistics and program support. The estimated total cost is $825 million.

This proposed sale will support the foreign policy and national security objectives of the U.S. by improving the security of a partner country that is a force for political stability and economic progress in Europe.

This proposed sale will improve Ukraine's capability to meet current and future threats by further equipping it to conduct self-defense and regional security missions. Ukraine will have no difficulty absorbing these articles and services into its armed forces.

The proposed sale of this equipment and support will not alter the basic military balance in the region.

The principal contractors will be Zone 5 Technologies and CoAspire. At this time, the U.S. Government is not aware of any offset agreement proposed in connection with this potential sale. Any offset agreement will be defined in negotiations between the purchaser and the contractor.

Implementation of this proposed sale will not require the assignment of any additional U.S. Government or contractor representatives to Ukraine.

There will be no adverse impact on U.S. defense readiness as a result of this proposed sale.

Transmittal No. 25-46

Notice of Proposed Issuance of Letter of Offer Pursuant to Section 36(b)(1) of the Arms Export Control Act

Annex

Item No. vii

(vii) Sensitivity of Technology:

1. The Extended Range Attack Munition (ERAM) is a 500-pound class air-launched, subsonic, precision-guided, turbojet powered, conventional, air-to-ground munition used to defeat targets in adverse weather from a standoff range of approximately 250 nautical miles. It uses Global Positioning System/Inertial Navigation System (GPS/INS) guidance with a unitary warhead for maximum lethality against armored and soft stationary targets.

2. The Embedded GPS/INS (EGI) with Selective Availability Anti-Spoofing Module (SAASM), Y-Code, or M-Code receiver when available, and Precise Positioning Service is a self-contained navigation system. SAASM, Y-Code, or M-Code enables the GPS receiver access to an encrypted P signal, providing protection against active spoofing attacks.

3. The highest level of classification of defense articles, components, and services included in this potential sale is SECRET.

4. If a technologically advanced adversary were to obtain knowledge of the specific hardware and software elements, the information could be used to develop countermeasures that might reduce system effectiveness or be used in the development of a system with similar or advanced capabilities.

5. A determination has been made that Ukraine can provide substantially the same degree of protection for the sensitive technology being released as the U.S. Government. This sale is necessary in furtherance of the U.S. foreign policy and national security objectives outlined in the Policy Justification.

6. All defense articles and services listed in this transmittal have been authorized for release and export to the Government of Ukraine.

[FR Doc. 2026-01486 Filed 1-26-26; 8:45 am]

BILLING CODE 6001-FR-P